DEPARTMENT OF COMMERCE

International Trade Administration

A-570-846

Brake Rotors From the People's Republic of China: Notice of Extension of the Preliminary Results of Antidumping Duty New Shipper Review

AGENCY: Import Administration, International Trade Administration, Department of Commerce.

EFFECTIVE DATE: May 11, 2007.

FOR FURTHER INFORMATION CONTACT: Jennifer Moats or Blanche Ziv, AD/CVD Operations, Office 8, Import Administration, International Trade Administration, U.S. Department of Commerce, 14th Street and Constitution Avenue, NW, Washington, DC 20230; telephone: (202) 482-5047 and (202) 482-4207, respectively.

SUPPLEMENTARY INFORMATION:

Background

The Department of Commerce (“the Department”) received a timely request from Longkou Qizheng Auto Parts Co., Ltd. (“Qizheng”), in accordance with 19 CFR 351.214(c), to conduct a semiannual new shipper review of the antidumping duty order on brake rotors from the People's Republic of China (“PRC”). See Notice of Antidumping Duty Order: Brake Rotors from the People's Republic of China, 62 FR 18740 (April 17, 1997). On November 30, 2006, the Department found that the request for review with respect to Qizheng met all of the regulatory requirements set forth in 19 CFR 351.214(b) and initiated a semiannual new shipper review of the antidumping duty order on brake rotors for the April 1, 2006, through September 30, 2006, period. See Brake Rotors from the People's Republic of China: Initiation of New Shipper Review, 71 FR 69203 (November 30, 2006). On March 8, 2007, the Department expanded the period of review (“POR”) of this semiannual new shipper review through October 30, 2006, to capture the entry corresponding to Qizheng's first sale to the United States. See Memorandum to Wendy J. Frankel, Office Director, through Blanche Ziv, Program Manager, from Jennifer Moats, Analyst, Regarding Expansion of the Period of Review. Therefore, the POR for the semiannual new shipper review of Qizheng is April 1, 2006, through October 30, 2006. The preliminary results are currently due no later than May 21, 2007.

Extension of Time Limit for Preliminary Results

Section 751(a)(2)(B)(iv) of the Tariff Act of 1930, as amended (“the Act”), and 19 CFR 351.214(i)(1) require the Department to issue the preliminary results of a new shipper review within 180 days after the date on which the new shipper review was initiated and final results of a review within 90 days after the date on which the preliminary results were issued. The Department may, however, extend the time period for completion of the preliminary results of a new shipper review to 300 days if it determines that the case is extraordinarily complicated. See 19 CFR 351.214(i)(2) and 751 (a)(2)(B)(iv) of the Act.

The Department has determined that the review is extraordinarily complicated, as the Department must gather additional information, issue additional supplemental questionnaires, and conduct verification of the responses. Based on the timing of the case and the additional information that must be gathered and verified, the preliminary results of this new shipper review cannot be completed within the statutory time limit of 180 days. Accordingly, the Department is extending the time limit for the completion of the preliminary results of the new shipper review of Qizheng to 300 days. See 751(a)(2)(B)(iv) of the Act and 19 CFR 351.214(i)(2). The preliminary results will now be due no later than September 18, 2007, in accordance with section 751(a)(2)(B)(iv) of the Act and 19 CFR 351.214(i)(2). The final results will be due 90 days after the date of issuance of the preliminary results, unless extended.

We are issuing this notice in accordance with sections 751(a)(2)(B)(iv) and 777(i)(1) of the Act.

Dated: May 7, 2007.
Stephen J. Claeys,
Deputy Assistant Secretary for Import Administration.

[FR Doc. E7-9132 Filed 5-10-07; 8:45 am]

BILLING CODE 3510-DS-S